DEPARTMENT OF AGRICULTURE

Forest Service

Humboldt (NV) Resource Advisory Committee

AGENCY: Forest Service, USDA.

ACTION: Notice of meetings.

SUMMARY: The Humboldt (NV) Resource Advisory Committee will meet in Winnemucca, Nevada. The committee is meeting as authorized under the Secure Rural Schools and Community Self-Determination Act (Pub. L. 110-343) and in compliance with the Federal Advisory Committee Act. The purpose is to review Title II funding procedures and Humboldt (NV) RAC operating guidelines, consider and recommend 2012 RAC project proposals, and review progress made on Humboldt (NV) RAC projects previously authorized.

DATES: The meeting will be held August 15 & 22, 2011 from 10:00 a.m. to 7:00 p.m.

ADDRESSES: The meeting will be held at the Humboldt County Court House Room 201, 50 West 5th Street, Winnemucca, Nevada. Written comments should be sent to USDA Forest Service, 1500 E Winnemucca Blvd., Winnemucca, NV 89445. Comments may also be sent via email to jlulrich@fs.fed.us, or via facsimile to 775-625-1200.

All comments, including names and addresses when provided, are placed in the record and are available for public inspection and copying. The public may inspect comments received at http://fs.usda.gov/goto/htnf/rac.

FOR FURTHER INFORMATION CONTACT: Jeff Ulrich, RAC Designated Federal Official, Santa Rosa Ranger District Humboldt-Toiyabe National Forest, 775-352-1215.

Individuals who use telecommunication devices for the deaf (TDD) may call the Federal Information Relay Service (FIRS) at 1-800-877-8339 between 8:00 a.m. and 8:00 p.m., Eastern Standard Time, Monday through Friday.

SUPPLEMENTARY INFORMATION: The meetings are open to the public.

The following business will be conducted on the August 15, 2012 meeting: (1) Introductions of all committee members and Forest Service personnel, (2) Review process for considering and recommending Title II projects, (3) Consider and vote on changes to Humboldt (NV) RAC operating guidelines, (4) Review progress made on previously authorized Title II projects, (5) Consider proposed Title II projects, and (6) Public Comment.

The following business will be conducted on the August 22, 2012 meeting: (1) Consider proposed Title II projects, (2) Vote on projects to be recommended, and (3) Public Comment.

Persons who wish to bring related matters to the attention of the Committee may file written statements with the Committee staff before or after the meeting. Public input sessions will be provided and individuals who made written requests by August 8, 2011 will have the opportunity to address the Committee at those sessions.

Dated: July 20, 2012.
Jeanne M Higgins,
Forest Supervisor, Humboldt-Toiyabe National Forest.

[FR Doc. 2012-18619 Filed 7-30-12; 8:45 am]

BILLING CODE 3410-11-P